DEPARTMENT OF COMMERCE

National Oceanic and Atmospheric Administration

RIN 0648-XE262

Schedule for Atlantic Shark Identification Workshop

AGENCY: National Marine Fisheries Service (NMFS), National Oceanic and Atmospheric Administration (NOAA), Commerce.

ACTION: Notice of public workshop.

SUMMARY: NMFS published a notice on September 10, 2015, announcing the dates and locations of three Atlantic Shark Identification Workshops to be held during October through December of 2015. Attendance at an Atlantic Shark Identification Workshop is mandatory for all federally permitted Atlantic shark dealers in order to meet certain regulatory requirements and to maintain valid permits. Based upon recent analysis indicating the need for an additional workshop in the New York and southern New England area to accommodate shark dealers who purchase smooth dogfish, this notice announces a free Atlantic Shark Identification Workshop that will be conducted during December of 2015 in Bohemia, NY. Additional Atlantic Shark Identification Workshops will be conducted during 2016 and will be announced in a future notice.

DATES: The Atlantic Shark Identification workshop will be held on December 10, 2015. See SUPPLEMENTARY INFORMATION for further details.

ADDRESSES: The Atlantic Shark Identification Workshop will be held in Bohemia, NY. See SUPPLEMENTARY INFORMATION for further details on the workshop location.

FOR FURTHER INFORMATION CONTACT: Rick Pearson by phone: (727) 824-5399, or by fax: (727) 824-5398.

SUPPLEMENTARY INFORMATION: The complete workshop schedule, registration information, and a list of frequently asked questions regarding these workshops are posted on the Internet at: http://www.nmfs.noaa.gov/sfa/hms/workshops/.

Atlantic Shark Identification Workshops

Since January 1, 2008, Atlantic shark dealers have been prohibited from receiving, purchasing, trading, or bartering for Atlantic sharks unless a valid Atlantic Shark Identification Workshop certificate is on the premises of each business listed under the shark dealer permit that first receives Atlantic sharks (71 FR 58057; October 2, 2006). Dealers who attend and successfully complete a workshop are issued a certificate for each place of business that is permitted to receive sharks. These certificate(s) are valid for 3 years. Approximately 115 free Atlantic Shark Identification Workshops have been conducted since January 2007.

Currently, permitted dealers may send a proxy to an Atlantic Shark Identification workshop. However, if a dealer opts to send a proxy, the dealer must designate a proxy for each place of business covered by the dealer's permit which first receives Atlantic sharks. Only one certificate will be issued to each proxy. A proxy must be a person who is currently employed by a place of business covered by the dealer's permit; is a primary participant in the identification, weighing, and/or first receipt of fish as they are offloaded from a vessel; and who fills out dealer reports. Atlantic shark dealers are prohibited from renewing a Federal shark dealer permit unless a valid Atlantic Shark Identification Workshop certificate for each business location that first receives Atlantic sharks has been submitted with the permit renewal application. Additionally, trucks or other conveyances that are extensions of a dealer's place of business must possess a copy of a valid dealer or proxy Atlantic Shark Identification Workshop certificate.

Since 2010, as part of their 2008 Interstate Coastal Shark Fishery Management Plan (FMP), the Atlantic States Marine Fisheries Commission (ASMFC) has required all state dealers who purchase sharks to hold a Federal commercial shark dealer permit. A recent comparison of dealers who have reported purchasing smooth dogfish in 2015 with a current list of Federal shark dealer permit holders indicated that a number of state dealers in some Atlantic coastal states did not hold a Federal commercial shark dealer permit. On October 8, 2015, ASMFC notified all states from Maine through Florida of this issue, and reminded them of the requirement that all shark dealers must hold a Federal commercial shark dealer permit. In addition, NMFS is currently in final rulemaking for Amendment 9 to the 2006 Consolidated HMS FMP (August 7, 2014, 79 FR 4627), which will establish an effective date for many of the smooth dogfish regulations that were finalized in Amendment 3 to the 2006 Consolidated HMS FMP, including the requirement for vessel and dealer permits. Given ASMFC's recently discovered need to ensure that all state dealers purchasing smooth dogfish are federally permitted and in anticipation of the final rule for Amendment 9 and its requirements, NMFS has determined that an additional Atlantic Shark Identification Workshop is needed to accommodate shark dealers in the New York and southern New England area. Affected dealers may also attend the previously scheduled November 12, 2015, workshop in Mount Pleasant, SC, or the December 3, 2015, workshop in Largo, FL (80 FR 54533).

Date, Time, and Location of Atlantic Shark Identification Workshop

December 10, 2015, 12 p.m.-4 p.m., LaQuinta Inn & Suites, 10 Aero Road, Bohemia, NY 11706.

Registration

To register for a scheduled Atlantic Shark Identification Workshop, please contact Eric Sander at esander@peoplepc.com or at (386) 852-8588.

Registration Materials

To ensure that workshop certificates are linked to the correct permits, participants will need to bring the following specific items to the workshop:

• All participants must bring proof of identification.

• Atlantic shark dealer permit holders must bring proof that the attendee is an owner or agent of the business (such as articles of incorporation), a copy of the applicable permit, and proof of identification.

• Atlantic shark dealer proxies must bring documentation from the permitted dealer acknowledging that the proxy is attending the workshop on behalf of the permitted Atlantic shark dealer for a specific business location, a copy of the appropriate valid permit, and proof of identification.

Workshop Objectives

The Atlantic Shark Identification Workshops are designed to reduce the number of unknown and improperly identified sharks reported in the dealer reporting form and increase the accuracy of species-specific dealer-reported information. Reducing the number of unknown and improperly identified sharks will improve quota monitoring and the data used in stock assessments. These workshops will train shark dealer permit holders or their proxies to properly identify Atlantic shark carcasses.

Authority: 16 U.S.C. 1801 et seq.

Dated: October 16, 2015.
Emily H. Menashes,
Acting Director, Office of Sustainable Fisheries, National Marine Fisheries Service.

[FR Doc. 2015-26767 Filed 10-20-15; 8:45 am]

BILLING CODE 3510-22-P